DEPARTMENT OF LABOR

Employment and Training Administration

Trade Adjustment Assistance Program: Training and Employment Guidance Letter

The Employment and Training Administration interprets federal law requirements pertaining to Trade Adjustment Assistance (TAA). These interpretations are issued in Training and Employment Guidance Letters (TEGLs) to the State Workforce Agencies. The TEGL described below is published in the Federal Register in order to inform the public.

TEGL 32-04

TEGL 32-04 provides guidance to states on meeting Fiscal Year (FY) 2005 goals for the TAA and NAFTA-TAA programs.

The information contained in TEGL 32-04 is issued to States and the cooperating state workforce agencies (SWAs) as guidance provided by the Department of Labor (DOL) in its role as the principal in the TAA program. As agents of the Secretary of Labor, the states and cooperating SWAs may not vary from the instructions in TEGL 32-04 without prior approval from the Department.

Dated: November 14, 2005.
Emily Stover DeRocco,
Assistant Secretary of Labor.

Employment and Training Administration Advisory System

U.S. Department of Labor, Washington, DC 20210

Classification: TAA/NAFTA-TAA

Correspondence Symbol: ONR

Date: May 17, 2005

Training and Employment Guidance Letter No. 32-04

To: All State Workforce Agencies; All State Workforce Liaisons; All State Trade Coordinators /s/

From: Emily Stover DeRocco, Assistant Secretary

Subject: State Accomplishment of Performance Goals for Trade Adjustment Assistance (TAA) and North American Free Trade Agreement Transitional Adjustment Assistance (NAFTA-TAA) Participants

1. Purpose. To provide guidance on meeting the Fiscal Year (FY) 2005 goals for the TAA and NAFTA-TAA programs.

2. References. Trade Act of 1974 (Pub. L. 93-619), as amended; Trade Act of 2002 (Pub. L. 107-210); Workforce Investment Act; Government Performance and Results Act of 1993 (GPRA), as amended; Training and Employment Guidance Letter (TEGL) 7-99, “Core and Customer Satisfaction Performance Measures for the Workforce Investment System;” TEGL 11-00, “Operating Instructions for Implementing the Amendments to the Trade Act of 1974 Enacted by the Trade Act of 2002;” TEGL 6-03, “Fiscal Year (FY) 2004 State Planning Estimates and Process for Requesting Additional Trade Adjustment Assistance (TAA) Funds for Training and Administration.”

3. Background. The Trade Act programs, TAA and NAFTA-TAA, were established to provide workers adversely affected by trade with assistance to return them to sustainable employment as quickly as possible. While many trade-affected workers will be able to find reemployment without assistance, the Trade Act programs provide an array of benefits for those who need additional help.

Performance measures were established for the Trade Act programs to measure the programs' success in returning individuals to sustainable employment. National goals are set each year for the reemployment rate, retention rate, and wage replacement rate to be achieved by participants exiting the TAA and NAFTA-TAA programs. Although there are no individual state goals, states are responsible for meeting the national goals for the Trade Act programs as required by the Agreement between the Governor of each state and the Secretary of Labor.

Performance in FY 2004 indicates considerable improvement in outcomes must be realized if the national goals are to be achieved in FY 2005. To the extent that these shortfalls are related to reporting deficiencies, the suggestions provided in section 6 of this TEGL emphasize the need for fully accounting for all TAA and NAFTA-TAA participants who enter employment in FY 2005. Moreover, since performance is an ongoing emphasis, the performance principles included in section 6 will be extremely helpful to states in ensuring that program performance is at acceptable levels in future years.

This TEGL provides guidance to states on FY 2005 goals as well as actions needed to achieve those goals.

4. Performance Goals.

The Trade Act programs' national performance goals for FY 2005 are:

• 70 percent of program exiters will be employed in the first quarter after program exit;

• 89 percent of those who were employed in the first quarter after program exit will be employed in the third quarter after program exit; and

• Those who are employed in the second and third quarters after program exit will earn, on average, not less than 80 percent of their pre-separation earnings.

5. Reported Past Performance. As outlined in TEGL 11-00, states are required to submit a quarterly Trade Act Participant Report (TAPR), Office of Management and Budget (OMB) approval number 1205-0392. Based on the outcomes reported in the TAPR, the TAA program has not met national performance goals in the past several years. In the most recent complete fiscal year, FY 2004, the reported outcomes fell short of the national goals on two of the three measures.

TAA National Performance Outcomes for FY 2004
Measure | National goal (percent) | National outcome (percent)
Wage Replacement | 90 | 74
Reemployment Rate | 70 | 63
Retention Rate | 88 | 89

Based on the performance data reported in the TAPR, OMB rated the TAA program as ineffective in its most recent review of job training programs. The reported outcomes are either the result of positive outcomes not being captured in the TAPR, the program being unable to effectively move TAA and NAFTA-TAA participants into sustainable employment, or both. It is essential that any inaccuracies in the reporting be identified and all positive outcomes reported to ensure that reported data fully represents the outcomes achieved.

6. Performance Principles. The Department has developed ten principles that represent a strategy for achieving the Department's vision for the TAA program and meeting performance goals. In addition, the Department has identified five areas that can be addressed immediately to improve the quality of reported outcomes.

a. The ten performance principles outlined below are basic principles for achieving quality results.

1. Assess each worker's skills and abilities. In order to determine the best path to reemployment, each participating worker needs an assessment of current skills and abilities.

2. Develop an individualized service strategy. There is no “one size fits all” service plan. An individualized service strategy, which leads to reemployment, should be developed for each worker based on the skills and abilities identified in his/her assessment, suitable occupations for which there is a demand in the local economy, and any training that is necessary to connect the worker's skills and abilities with those needed to meet the demand.

3. Co-enroll with other One-Stop programs. The TAA program provides the training necessary to give individuals the skills that are in demand. TAA participants depend on the assessment and placement services offered by One-Stop partners to connect them to appropriate job opportunities.

4. Work with staff at all levels to achieve common goals. In order to achieve success, staff at local, state, and federal levels must work together to identify and meet the individual needs of each worker with an awareness that the overarching goal is to quickly return that worker to sustainable employment through the provision of appropriate services from the TAA program and other One-Stop partners.

5. Provide effective placement services. Effective placement services are essential to connecting trained workers with employers that have a demand for their skills. Without placement services, trained TAA participants may miss out on high growth occupational opportunities.

6. Get workers jobs quickly. Our business is getting people back to work. If their assessment indicates they have the skills necessary to obtain suitable employment, they should immediately receive placement services to connect them with employers who need their skills. If they do not have the skills to return to suitable employment, a training plan should be developed quickly that will prepare them for an occupation that is in high demand, minimize the time they are separated from the workforce, and offer the highest opportunity for sustainable employment.

7. Get workers jobs that last. Although there is no guarantee that any job with a specific company will last, training programs should focus on providing skills that are expected to be in demand in the local economy so that the worker will have the skills necessary for sustainable employment.

8. Get workers jobs that pay. In order to meet the needs of the individual worker, reemployment must be at a wage that allows the individual to meet their financial commitments, such as mortgage payments, car payments, food, medical expenses, education, and dependent care. These commitments are established in relation to the worker's previous earnings and cannot be met unless he/she obtains a job paying substantially similar wages.

9. Report outcomes accurately and timely. The success of the TAA program is judged by the data the states report. Our successes cannot be recognized if they are not reported on time and accurately.

10. Know and achieve national performance goals. In order to meet national program goals and demonstrate the value of the TAA program, federal, state, and local staff must all know the national program goals they are working to achieve.

b. There are several areas, consistent with the performance principles, that can be addressed immediately to improve the quality of reported outcomes and ensure an appropriate system-wide focus on performance. These areas are discussed below:

1. Wage Record Interchange System. In order to ensure that all positive outcomes are recorded, states are encouraged to take full advantage of the Wage Record Interchange System (WRIS). Use of the WRIS will allow outcomes for TAA and NAFTA-TAA participants who find work outside the state in which services are provided to be appropriately reported. This could add significantly to reported outcomes, particularly since TAA and NAFTA-TAA participants have job search and relocation allowances available to them to help them find work outside their commuting area.

Attached is a list of WRIS contacts. For information about accessing the WRIS system, state TAA coordinators may contact the individual listed for their state. States that do not have a contact listed may contact their appropriate Employment and Training Administration (ETA) regional office for more information.

2. Supplemental Data. In addition to the use of state wage records and the WRIS, supplemental data sources, as described in TEGL 7-99, can be a valuable tool in collecting outcome information on individuals who may not be fully accounted for in the wage record systems. Telephone and electronic communications can be useful methods of following up with participants or employers to determine employment status. In addition, where states have access to other administrative mechanisms, they should take full advantage of them. Indications are that supplemental sources can improve reported outcomes; however, the validity of the data must be assured. In instances where supplemental data indicates the individual was employed but there is no corresponding wage record, the mechanism for reporting the employment on the TAPR is to report “yes” in field 40, “employed first quarter after exit,” and/or field 43, “employed third quarter after exit,” and to report “0” in the corresponding wage field.

3. Exit Date. TEGL 11-00 instructs states that there are two ways to determine program exit. States are required to submit TAPR (OMB number 1205-0392) information for all participants who:

• Have a date of completion or known exit from Trade Act-funded services or, if later, from WIA Title I-funded services (hard exit); or

• Do not receive any Trade Act-funded or non-TAA partner services for 90 days and are not scheduled for future services (soft exit).

In all cases where services are provided to the participant by both TAA and a partner program, the exit date is based on the last service provided by either program. This means that if a TAA participant completes TAA-funded training and then receives services provided by WIA, the exit date used for reporting the participant on the TAPR is the date the individual received the last service provided by WIA. It has been brought to our attention that some states may be exiting participants and reporting them on the TAPR while they are still receiving services under WIA. This inaccurately results in the participants being reported as not reemployed, even though the individuals are still receiving services and not necessarily seeking work. Consequently, it is essential that the date of exit be accurately recorded.

4. Wrap-around services. Accomplishing TAA performance goals requires a coordinated approach at the state and local level. Coordination will ensure that TAA and NAFTA-TAA participants not only receive appropriate training related to demand occupations, but also are provided assessment, counseling, and reemployment services. These services are essential to ensuring the training received is appropriate to the individual and the local job market and results in timely and quality reemployment. Ensuring that the Trade Act investment in workers is successful requires an integrated approach that utilizes all available resources for serving dislocated workers.

5. Monitoring. States are expected to have program evaluation and monitoring systems in place that include Trade Act programs and reinforce the pursuit of program performance goals. As part of program evaluation, states should identify and ensure appropriate strategies are being applied to reemploy TAA participants. Ongoing coordination should occur between Trade Act and Dislocated Worker Unit coordinators to ensure TAA and NAFTA-TAA participants receive the full range of necessary services in a timely manner. When technical assistance needs are identified, the state should provide prompt guidance to local program coordinators to quickly resolve any issues, whether related to service strategies or to data collection and reporting.

7. Funding Formula. As described in TEGL 6-03, accomplishment of performance goals may be included as an element in the funding allocation formula in future years. A workgroup of federal, state, and local representatives is discussing methodologies for distributing TAA training funds, including how performance might be factored into the formula. Therefore, each state's performance status in FY 2005 may affect their funding in future years.

8. Performance Measures for FY 2006. For FY 2006, ETA is proposing changes to the reporting requirements for the Trade Act programs to incorporate a set of common performance measures as well as capture information related to the Trade Act of 2002. The common measures will be applied to certain federally-funded employment and training programs with similar strategic goals. The value of implementing common measures is the ability to describe in a similar manner the core purposes of the workforce system—how many people found jobs; whether people stay employed; and whether their earnings increased.

Multiple sets of performance measures have burdened states and grantees as they are required to report performance outcomes based on varying definitions and methodologies for different programs. By minimizing the different reporting and performance requirements, common performance measures can facilitate the integration of service delivery, reduce barriers to cooperation among programs, and enhance the ability to assess the effectiveness and impact of the workforce investment system.

The changes are proposed for FY 2006, and of note are changes to the retention measure and the earnings change measure. The retention measure will compare those who were employed in the first, second, and third quarters after program exits. The earnings change measure will be calculated and reported as a dollar amount, comparing earnings in the second and third quarters prior to the date of participation with earnings in the second and third quarters following program exit.

9. Action. States should make all appropriate staff aware of the contents of this TEGL and take appropriate measures to improve program performance and ensure full and accurate reporting of reemployment outcomes.

10. Inquiries. Inquiries regarding these instructions should be directed to the appropriate Regional Office.

11. Attachment. WRIS State Contacts.

[FR Doc. E5-6396 Filed 11-18-05; 8:45 am]

BILLING CODE 4510-30-P